DEPARTMENT OF ENERGY

[OE Docket No. EA-280-B]

Application to Export Electric Energy; Direct Energy Marketing, Inc.

AGENCY: Office of Electricity Delivery and Energy Reliability, DOE.

ACTION: Notice of Application.

SUMMARY: Direct Energy Marketing, Inc. (DEMI) has applied to renew its authority to transmit electric energy from the United States to Canada pursuant to section 202(e) of the Federal Power Act (FPA).

DATES: Comments, protests, or requests to intervene must be submitted to DOE and received on or before January 3, 2011.

ADDRESSES: Comments, protests or requests to intervene should be addressed to: Christopher Lawrence, Office of Electricity Delivery and Energy Reliability, Mail Code: OE-20, U.S. Department of Energy, 1000 Independence Avenue, SW., Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) 202-586-5260.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On November 5, 2003, DOE issued Order No. EA-280, which authorized DEMI to transmit electric energy from the United States to Canada for a two-year term as a power marketer using existing international transmission facilities. DOE renewed the DEMI export authorization in Order No. EA-280-A on March 17, 2006. Order No. EA-280-A expired on November 5, 2010. On November 5, 2010, DEMI filed an application with DOE for renewal of the export authority contained in Order No. EA-280-A for an additional ten-year term.

DEMI has requested expedited treatment of their application. DEMI states that due to recent personnel changes, the impending termination of their current export authorization was only recently discovered. Because that authorization has expired, DEMI wishes to have expedited treatment of this application in order to minimize the disruption to its electricity trade with Canadian interests. DEMI also indicated that it has not engaged in the export of electricity since its authorization expired and will not do so unless and until DEMI receives an Order granting renewal of its export authority in this proceeding. In response to DEMI's request for expedited treatment, DOE has shortened the public comment period to 15 days.

The electric energy that DEMI proposes to export to Canada would be surplus energy purchased from electric utilities, Federal power marketing agencies, and other entities within the United States. The existing international transmission facilities to be utilized by DEMI have previously been authorized by Presidential permits issued pursuant to Executive Order 10485, as amended, and are appropriate for open access transmission by third parties.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with and received by DOE on or before the date listed above.

Comments on the DEMI application to export electric energy to Canada should be clearly marked with Docket No. EA-280-B. Additional copies are to be filed directly with Judith Kim, FERC Attorney, Direct Energy, LP, 12 Greenway Plaza, Suite 600, Houston, Texas 77046 and Katherine Krause, Director, U.S. Compliance, Direct Energy, LP, 12 Greenway Plaza, Suite 600, Houston, Texas. A final decision will be made on this application after the environmental impacts have been evaluated pursuant to DOE's National Environmental Policy Act Implementing Procedures (10 CFR Part 1021) and after a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.Hopkins@hq.doe.gov.

Issued in Washington, DC, on December 13, 2010.
Anthony J. Como,
Director, Permitting and Siting Office of Electricity Delivery and Energy Reliability.

[FR Doc. 2010-31743 Filed 12-16-10; 8:45 am]

BILLING CODE 6450-01-P